DEPARTMENT OF AGRICULTURE

Agricultural Marketing Service

[Doc. No. AMS-LP-24-0072]

United States Classes, Standards, and Grades for Poultry

AGENCY: Agricultural Marketing Service, USDA.

ACTION: Notice, extension of comment period.

SUMMARY: This document extends the comment period of the January 16, 2025, notice and request for comments on revisions to the United States Classes, Standards, and Grades for Poultry (the Poultry Standards). The last minor revision to the Poultry Standards occurred in 2018, but the last substantial revision prior to that occurred in 1998. Since then, poultry production and quality assessment methods have changed significantly, as have consumer preferences.

DATES: The comment period for the notice originally published on January 16, 2025 (90 FR 4712) is extended for 60 days. Comments must be submitted on or before May 16, 2025.

FOR FURTHER INFORMATION CONTACT: Samantha Rhoderick, National Poultry Supervisor, Livestock and Poultry Program, phone (202) 603-9025; or email at Samantha.Rhoderick@usda.gov.

SUPPLEMENTARY INFORMATION: A Notice published in the Federal Register on January 16, 2025 (90 FR 4712), seeks public feedback on revisions that will ensure that the Poultry Standards keep pace with modernization and continue to serve the needs of industry and consumers.

The Notice established a 60-day comment period, ending March 17, 2025. During the initial comment period, AMS received a request from a U.S. trade association that advocates for companies that raise and process chickens for an extension of the comment period. AMS is extending the comment period related to the Notice by an additional 60 days. Comments must be submitted on or before May 16, 2025.

Melissa Bailey,
Associate Administrator, Agricultural Marketing Service.

[FR Doc. 2025-04545 Filed 3-14-25; 11:15 am]

BILLING CODE 3410-02-P